INTERNATIONAL TRADE COMMISSION

[Investigation Nos. 701-TA-610 and 731-TA-1425-1426 (Final)]

Refillable Stainless Steel Kegs From China and Germany

Determinations

On the basis of the record ¹ developed in the subject investigations, the United States International Trade Commission (“Commission”) determines, pursuant to the Tariff Act of 1930 (“the Act”), that an industry in the United States is materially retarded by reason of imports of refillable stainless steel kegs from China and Germany, provided for in subheadings 7310.10 and 7310.29 of the Harmonized Tariff Schedule of the United States, that have been found by the U.S. Department of Commerce (“Commerce”) to be sold in the United States at less than fair value (“LTFV”),² and to be subsidized by the government of China.3 4 5

¹ The record is defined in sec. 207.2(f) of the Commission's Rules of Practice and Procedure (19 CFR 207.2(f)).

² 84 FR 57010, October 24, 2019, and 84 FR 57008, October 24, 2019.

³ 84 FR 57005, October 24, 2019.

⁴ The Commission also finds that imports subject to Commerce's affirmative critical circumstances determinations are not likely to undermine seriously the remedial effect of the countervailing and antidumping duty orders on refillable stainless steel kegs from China.

⁵ Commissioners Randolph J. Stayin and Amy A. Karpel did not participate in these investigations.

Background

The Commission instituted these investigations effective September 20, 2018, following receipt of a petition filed with the Commission and Commerce by American Keg Company, LLC, Pottstown, Pennsylvania. Effective June 4, 2019, the Commission established a general schedule for the conduct of the final phase of the investigations following notification of preliminary determinations by Commerce that imports of refillable stainless steel kegs were being subsidized by the government of China ⁶ within the meaning of section 703(b) of the Act and that imports of refillable stainless steel kegs from China,⁷ Germany,⁸ and Mexico ⁹ were being sold at LTFV within the meaning of 733(b) of the Act. Notice of the scheduling of the final phase of the Commission's investigations and of a public hearing to be held in connection therewith was given by posting copies of the notice in the Office of the Secretary, U.S. International Trade Commission, Washington, DC, and by publishing the notice in the Federal Register on June 17, 2019 (84 FR 28070). The hearing was held in Washington, DC, on August 14, 2019, and all persons who requested the opportunity were permitted to appear in person or by counsel.

⁶ 84 FR 13634, April 5, 2019.

⁷ 84 FR 25745, June 4, 2019.

⁸ 84 FR 25736, June 4, 2019.

⁹ 84 FR 25738, June 4, 2019.

Following notification of final determinations by Commerce that imports of refillable stainless steel kegs were being subsided by the government of China and that imports of refillable stainless steel kegs from China and Germany were being sold in the United States at LTFV, notice of the supplemental scheduling of the final phase of the Commission's countervailing and antidumping duty investigations was given by posting copies of the notice in the Office of the Secretary, U.S. International Trade Commission, Washington, DC, and by publishing the notice in the Federal Register of November 6, 2019 (84 FR 59840).

The Commission made these determinations pursuant to sections 705(b) and 735(b) of the Act (19 U.S.C. 1671d(b) and 19 U.S.C. 1673d(b)). It completed and filed its determinations in these investigations on December 9, 2019. The views of the Commission are contained in USITC Publication 5002 (December 2019), entitled Refillable Stainless Steel Kegs from China and Germany: Investigation Nos. 701-TA-610 and 731-TA-1425-1426 (Final).

By order of the Commission.
Issued: December 9, 2019.
Lisa Barton,
Secretary to the Commission.

[FR Doc. 2019-26863 Filed 12-12-19; 8:45 am]

BILLING CODE 7020-02-P